INTERNATIONAL TRADE COMMISSION

[Investigation No. TA-201-76]

Large Residential Washers; Institution and Scheduling of Safeguard Investigation and Determination That the Investigation Is Extraordinarily Complicated, Amendment

AGENCY: United States International Trade Commission.

ACTION: Notice; amendment.

SUMMARY: The Commission published a notice in the Federal Register of June 13, 2017, concerning the institution and scheduling of investigation No. TA-201-76 pursuant to section 202 of the Trade Act of 1974 (“the Act”) to determine whether large residential washers are being imported into the United States in such increased quantities as to be a substantial cause of serious injury, or the threat thereof, to the domestic industry producing an article like or directly competitive with the imported articles. 72 FR 27075. This amended notice provides for limits on page lengths for posthearing briefs.

FOR FURTHER INFORMATION CONTACT: Michael Szustakowski (202-205-3169), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION:

Amendment.—Pursuant to 19 CFR 206.3(b), in the Federal Register of June 13, 2017, in FR Doc. 2017-12160, on page 27077, in the third column, line 23, following the sentence ending with “October 26, 2017,” add the following sentences:

No posthearing brief, either in the injury phase or any remedy phase, shall exceed fifteen (15) pages of textual material, double-spaced and single-sided, when printed out on pages measuring 8.5 x 11 inches. In addition, the presiding official may permit persons to file answers to questions or requests made by the Commission at the hearing for the injury phase, and at any hearing for the remedy phase, within a specified time.

By order of the Commission.
Issued: July 18, 2017.
Lisa R. Barton,
Secretary to the Commission.

[FR Doc. 2017-15356 Filed 7-20-17; 8:45 am]

BILLING CODE 7020-02-P